DEPARTMENT OF ENERGY

Federal Energy Regulatory Commission

[Project No. 13817-001]

EBD Hydro Apple Inc.; Notice of Transfer of Exemption

1. By letter filed on December 9, 2013 and supplemented on December 27, 2013, EBD Hydro informed the Commission that the exemption from licensing for the 45-Mile Hydroelectric Project, FERC No. 13817, originally issued December 17, 2010,¹ has been transferred to Apple Inc. The project will be located at the concrete drop structure of the North Unit Irrigation District's main irrigation canal in Jefferson County, Oregon. The transfer of an exemption does not require Commission approval.

¹ 133 FERC ¶ 62,268, Order Granting Exemption From Licensing (Conduit).

2. Apple Inc. is now the exemptee of the 45-Mile Hydroelectric Project, FERC No. 13817. All correspondence should be forwarded to: Apple Inc., Attn: Real Estate Counsel, 1 Infinite Loop, MS: 4D-LAW, Cupertino, CA 95014.

Dated: March 31, 2014.
Kimberly D. Bose,
Secretary.

[FR Doc. 2014-07535 Filed 4-3-14; 8:45 am]

BILLING CODE 6717-01-P